DEPARTMENT OF AGRICULTURE

Forest Service

Fresno County Resource Advisory Committee

AGENCY: Forest Service, USDA.

ACTION: Notice of meeting.

SUMMARY: The Fresno County Resource Advisory Committee will meet in Prather, California. The purpose of the meeting is to discuss the 2007 project submittal process and timeline regarding the Secure Rural Schools and Community Self-Determination Act of 2000 (Pub. L. 106-393) for expenditure of Payments to States Fresno County Title II funds.

DATES: The meeting will be held on June 20th from 6:30 p.m. to 9 p.m.

ADDRESSES: The meeting will be held at the High Sierra Ranger District, 29688 Auberry Road, Prather, California 93651. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. Public sessions will be provided and individuals who made written requests by June 14, 2006 will have the opportunity to address the Committee at those sessions. Agenda items to be covered include: (1) Call for new projects process; (2) Review of funded projects and (3) Public comment.

Dated: May 9, 2006.
Ray Porter,
District Ranger.

[FR Doc. 06-4545 Filed 5-15-06; 8:45 am]

BILLING CODE 3410-11-M